EQUAL EMPLOYMENT OPPORTUNITY COMMISSION

Sunshine Act Meetings

TIME AND DATE: Thursday, October 21, 2021, 1:00 p.m. Eastern Time

PLACE: The meeting will be closed to the public. Note: Because of the COVID-19 pandemic, the meeting will be held as a video conference. The public may not observe/listen to the conference.

STATUS: The meeting will be closed to the public.

MATTERS TO BE CONSIDERED: The following item will be considered at the meeting: Pending Litigation Recommendations and a proposed Subpoena Determination.

Note: The Legal Counsel has certified that, in her opinion, the Commission meeting scheduled for October 21, 2021 (and any portions of any subsequent meetings within the following 30 days to which those same matters may be carried over) concerning pending litigation recommendations and a proposed subpoena determination may properly be closed under the 3rd, 7th, and 10th exemptions to the Government in the Sunshine Act, 5 U.S.C. 552b(c)(3), (7), and (10), and Commission regulations at 29 CFR 1612.4(c), (g), and (j).

In accordance with the Sunshine Act, because this meeting is closed, the public will not be able to observe/listen to the Commission's deliberations and voting. (In addition to publishing notices on EEOC Commission meetings in the Federal Register, the Commission also provides information about Commission meetings on its website, www.eeoc.gov, and provides a recorded announcement a week in advance on future Commission sessions.)

Please telephone (202) 921-2750 (voice) or email commissionmeetingcomments@eeoc.gov at any time for information on this meeting.

CONTACT PERSON FOR MORE INFORMATION: Shelley E. Kahn, Acting Executive Officer, (202) 921-3061.

Date: October 13, 2021.
Shelley E. Kahn,
Acting Executive Officer, Executive Secretariat.

[FR Doc. 2021-22679 Filed 10-13-21; 4:15 pm]

BILLING CODE 6570-01-P